DEPARTMENT OF COMMERCE

International Trade Administration

[A-523-812; A-535-903; A-520-807]

Circular Welded Carbon-Quality Steel Pipe From Oman, Pakistan, and the United Arab Emirates: Final Results of Expedited Sunset Reviews of Antidumping Duty Orders

AGENCY: Enforcement and Compliance, International Trade Administration, Department of Commerce.

SUMMARY: As a result of these expedited sunset reviews, the Department of Commerce (Commerce) finds that revocation of the antidumping duty (AD) orders on circular welded carbon-quality steel pipe (CWP) from Oman, Pakistan, and the United Arab Emirates (UAE) would likely lead to a continuation or recurrence of dumping at the levels identified in the “Final Results of Sunset Reviews” section of this notice.

DATES: Applicable February 18, 2022.

FOR FURTHER INFORMATION CONTACT: Zachariah Hall, AD/CVD Operations, Office VIII, Enforcement and Compliance, International Trade Administration, U.S. Department of Commerce, 1401 Constitution Avenue NW, Washington, DC 20230; telephone: (202) 482-6261.

SUPPLEMENTARY INFORMATION:

Background

On December 19, 2016, Commerce published the AD orders on CWP from Oman, Pakistan, and the UAE in the Federal Register.¹ On November 1, 2021, the Department of Commerce (Commerce) published the notice of initiation of the first sunset reviews of the Orders, pursuant to section 751(c) of the Tariff Act of 1930, as amended (the Act).² On November 16, 2021, Commerce received timely and complete notices of intent to participate in these sunset reviews from Nucor Tubular Products Inc. (Nucor Tubular), Bull Moose Tube Company (Bull Moose), Wheatland Tube Company (Wheatland Tube), and Maruichi American Corp (Maruichi American) (collectively, domestic interested parties), within the deadline specified in 19 CFR 351.218(d)(1)(i).³ The domestic interested parties claimed interested party status under section 771(9)(C) of the Act as manufacturers in the United States of the domestic like product.⁴

¹ See Circular Welded Carbon-Quality Steel Pipe from the Sultanate of Oman, Pakistan, and the United Arab Emirates: Amended Final Affirmative Antidumping Duty Determination and Antidumping Duty Orders, 81 FR 91906 (December 19, 2016) (Orders).

² See Initiation of Five-Year (Sunset) Reviews, 86 FR 60201 (November 1, 2021).

³ See Domestic Interested Parties' Letters, “Circular Welded Carbon-Quality Steel Pipe from Oman: Notice of Intent to Participate in Sunset Review”; “Circular Welded Carbon-Quality Steel Pipe from Pakistan: Notice of Intent to Participate in Sunset Review”; “Circular Welded Carbon-Quality Steel Pipe from the United Arab Emirates: Notice of Intent to Participate in Sunset Review,” each dated November 16, 2021; “Notice of Intent to Participate in the First Five-Year Review of the Antidumping Duty Order on Circular Welded Carbon-Quality Steel Pipe from Oman”; “Notice of Intent to Participate in the First Five-Year Review of the Antidumping Duty Order on Circular Welded Carbon-Quality Steel Pipe from Pakistan”; “Notice of Intent to Participate in the First Five-Year Review of the Antidumping Duty Order on Circular Welded Carbon-Quality Steel Pipe from the United Arab Emirates,” each dated November 16, 2021 (Bull Moose, Wheatland Tube, and Maruichi American's Letters) (collectively, Notice of Intent to Participate Letters).

⁴ See Notice of Intent to Participate Letters.

On December 1, 2021, the domestic interested parties filed timely and adequate substantive responses, within the deadline specified in 19 CFR 351.218(d)(3)(i).⁵ Commerce did not receive adequate substantive responses from any respondent interested party, nor was a hearing requested.⁶ As a result, pursuant to section 751(c)(3)(B) of the Act and 19 CFR 351.218(e)(1)(ii)(C)(2), we determine that the respondent interested parties did not provide an adequate response to the notice of initiation and, therefore, Commerce conducted expedited (120-day) sunset reviews of the Orders.

⁵ See Domestic Interested Parties' Letters, “Circular Welded Carbon-Quality Steel Pipe from Oman: Substantive Response to Notice of Initiation of Sunset Review”; “Circular Welded Carbon-Quality Steel Pipe from Pakistan: Substantive Response to Notice of Initiation of Sunset Review; and “Circular Welded Carbon-Quality Steel Pipe from the United Arab Emirates: Substantive Response to Notice of Initiation of Sunset Review,” each dated December 1, 2021 (collectively, Domestic Interested Parties' Substantive Responses).

⁶ See Commerce's Letter, “First Sunset Antidumping Duty Review of Circular Welded Carbon-Quality Steel Pipe from the United Arab Emirates: Adequacy of Substantive Response,” dated December 17, 2021.

Scope of the Orders

The merchandise covered by the Orders is CWP from Oman, Pakistan, and the UAE. For a complete description of the scope of the Orders, see the Issues and Decision Memorandum.⁷

⁷ See Memorandum, “Issues and Decision Memorandum for the Final Results of the Expedited Sunset Reviews of the Antidumping Duty Orders on Circular Welded Carbon-Quality Steel Pipe from Oman, Pakistan, and the United Arab Emirates,” dated concurrently with this notice.

Analysis of Comments Received

A complete discussion of all issues raised in these sunset reviews is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Reviews

Pursuant to sections 751(c) and 752(c)(1) and (3) of the Act, Commerce determines that revocation of the Orders would be likely to lead to continuation or recurrence of dumping, and that the magnitude of the dumping margins likely to prevail would be weighted-average margins of up to:

Country | Weighted average dumping margin (percent)
Oman | 7.36
Pakistan | 11.80
UAE | 6.43

Notification Regarding Administrative Protective Orders

This notice also serves as the only reminder to parties subject to administrative protective order (APO) of their responsibility concerning the return or destruction of proprietary information disclosed under APO in accordance with 19 CFR 351.305. Timely notification of the return or destruction of APO materials, or conversion to judicial protective orders, is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: February 11, 2022.
Lisa W. Wang,
Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Dumping Margins Likely To Prevail

VII. Final Results of Sunset Reviews

VIII. Recommendation

[FR Doc. 2022-03532 Filed 2-17-22; 8:45 am]

BILLING CODE 3510-DS-P